DEPARTMENT OF VETERANS AFFAIRS

National Academic Affiliations Council, Notice of Meeting

The Department of Veterans Affairs (VA) gives notice under the Federal Advisory Committee Act, 5 U.S.C. App. 2, that a meeting of the National Academic Affiliations Council (NAAC) will be held on January 10-11, 2013, in the Office of Academic Affiliations Conference Room 870, 1800 G Street NW., Washington, DC. The sessions will begin at 8:00 a.m. each day and adjourn at 5:00 p.m. on January 10 and at 1:00 p.m. on January 11.

The purpose of the Council is to advise the Secretary on matters affecting partnerships between VA and its academic affiliates.

On January 10, the Council will review the status of recommendations from its previous meetings; receive a report from the NAAC Joint Venture Task Force; hear from Veterans Health Administration (VHA) officials; and engage in discussions about mental health service enhancements and implications for mental health education. On January 11, the Council will hear from officials of the VHA Office of Research and Development and continue its discussion of opportunities and challenges in academic affiliation relationships. The Council will receive public comments at 12:30 p.m.

A sign-in sheet for those who want to give comments will be available at the meeting. Individuals who speak are invited to submit a 1-2 page summary of their comments at the time of the meeting for inclusion in the official meeting record. Oral presentations will be limited to five minutes or less, depending on the number of participants. Interested parties may also provide written comments for review by the Council to Gloria J. Holland, Ph.D., Special Assistant for Policy and Planning, Office of Academic Affiliations (10A2D), VA, 810 Vermont Avenue NW., Washington, DC 20420 or by email to Gloria.Holland@va.gov. Any member of the public wishing to attend or seeking additional information should contact Dr. Holland by email or by phone at (202) 461-9490.

Dated: December 18, 2012.
By Direction of the Secretary.
Vivian Drake,
Committee Management Officer.

[FR Doc. 2012-30864 Filed 12-21-12; 8:45 am]

BILLING CODE P